DEPARTMENT OF ENERGY

Federal Energy Regulatory Commission

[Docket No. RP98-391-005]

Colorado Interstate Gas Company; Notice of Revenue Report

October 4, 2000.

Take notice that on September 29, 2000, Colorado Interstate Gas Company (CIG), tendered for filing its report of revenues and credits during the first year of service under Rate Schedule SS-1, CIG's Swing Service.

CIG states that copies of the filing have been mailed to all parties on the Commission's official service list in this docket.

Any person desiring to protest said filing should file a protest with the Federal Energy Regulatory Commission, 888 First Street, NW., Washington, DC 20426, in accordance with Section 385.211 of the Commission's Rules and Regulations. All such protests must be filed on or before October 12, 2000. Protests will be considered by the Commission in determining the appropriate action to be taken, but will not serve to make protestants parties to the proceedings. Copies of this filing are on file with the Commission and are available for public inspection in the Public Reference Room. This filing may be viewed on the web at http://www.ferc.fed.us/online/rims.htm (call (202-208-2222 for assistance).

Linwood A. Watson, Jr.,
Acting Secretary.

[FR Doc. 00-26041 Filed 10-10-00; 8:45 am]

BILLING CODE 6717-01-M